DEPARTMENT OF HEALTH AND HUMAN SERVICES

Substance Abuse and Mental Health Services Administration

Center for Substance Abuse Prevention; Notice of Meeting

Pursuant to Public Law 92-463, notice is hereby given that the Substance Abuse and Mental Health Services Administration's (SAMHSA) Center for Substance Abuse Prevention (CSAP) Drug Testing Advisory Board (DTAB) will meet by web conference on October 26, 2015, from 11 a.m. to 3 p.m. E.D.T., and on October 27, 2015, from 11 a.m. to 3 p.m. E.D.T. The DTAB will convene in closed session on both these days.

On October 26-27, 2015, from 11 a.m. to 3 p.m., the Board will meet to review and discuss the final drafts of the Mandatory Guidelines for Federal Workplace Drug Testing Programs. Therefore, this meeting is closed to the public as determined by the Administrator, SAMHSA, in accordance with 5 U.S.C. 552b(c)(9)(B) and 5 U.S.C. App. 2, Section 10(d).

Meeting information and a roster of DTAB members may be obtained by accessing the SAMHSA Advisory Committees Web site, http://www.samhsa.gov/about-us/advisory-councils/drug-testing-advisory-board-dtab, or by contacting Dr. Cook.

Committee Name: Substance Abuse and Mental Health Services Administration's Center for Substance Abuse Prevention Drug Testing Advisory Board.

Dates/Time/Type: October 26, 2015, from 11 a.m. to 3 p.m. E.D.T.: CLOSED; October 27, 2015, from 11 a.m. to 3 p.m. E.D.T.: CLOSED.

Place: VTC Conference Room, SAMHSA Building, 1 Choke Cherry Road, Rockville, Maryland 20850.

Contact: Janine Denis Cook, Ph.D., Designated Federal Official, CSAP Drug Testing Advisory Board, 1 Choke Cherry Road, Room 7-1043, Rockville, Maryland 20857, Telephone: 240-276-2600, Fax: 240-276-2610, Email: janine.cook@samhsa.hhs.gov.

Janine Denis Cook,
Designated Federal Official, Division of Workplace Programs, Center for Substance Abuse Prevention, Substance Abuse and Mental Health Services Administration.

[FR Doc. 2015-22633 Filed 9-8-15; 8:45 am]

BILLING CODE 4162-20-P